DEPARTMENT OF HOUSING AND URBAN DEVELOPMENT

[Docket No. FR-5685-N-01]

Notice of Proposed Information Collection; Comment Request: Fair Housing Training Survey

AGENCY: Office of Fair Housing and Equal Opportunity, HUD.

ACTION: Notice.

SUMMARY: The proposed information collection requirement described below will be submitted to the Office of Management and Budget (OMB) for review, as required by the Paperwork Reduction Act. The Department is soliciting public comments on the subject proposal.

In 2011, HUD's Office of Fair Housing and Equal Opportunity (FHEO) began an outreach initiative to strengthen FHEO's ties with community-based organizations that work with the public. As part of that initiative, FHEO has held a series of training events around the country to bring together public and private fair housing professionals with community leaders and organizations that work directly with members of the public. By training advocates from organizations that work with underserved communities, FHEO hopes that organizations will be able to recognize and report discrimination in the communities they serve. FHEO would like to survey conference participants to see if they have used knowledge and/or distributed informational material they obtained at these events. This information will allow FHEO to access the success of the outreach and the worth of conducting this type of outreach in the future.

DATES: Comments Due Date: May 6, 2013.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Relay Service (1-800-877-8339).

FOR FURTHER INFORMATION CONTACT: Robert Walker, Director, Education and Outreach Division, Office of Fair Housing and Equal Opportunity, Department of Housing and Urban Development, 451 7th Street SW., Washington, DC 20410, telephone (202) 402-6875 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Fair Housing Training Survey.

OMB Control Number, if applicable: 2529-New.

Description of the need for the information and proposed use:

The information collected from these surveys will be used to determine if education and outreach training conferences were useful to the participants and advanced the goals of our office. The hope is that by attending the training these organizations learned more about rights protected by the Fair Housing Act and other fair housing law. The questions also ask about the impact the training has had on the organization's activities. For example, the survey asks whether or not the organization have filed, or helped someone file a fair housing complaint since the training. This information will allow FHEO to assess the success of the education and outreach events and the worth of conducting this type of outreach in the future.

Agency form numbers, if applicable: None.

Estimation of the total numbers of hours needed to prepare the information collection including number of respondents, frequency of response, and hours of response: The number of burden hours is about 100 hours (6000 minutes) to complete the survey. This burden was calculated by estimating that the total number of people to receive the survey will be 700 people per year. The predicted number of people to respond to the survey is 600 people per year. The survey should take around 10 minutes to complete, creating a total time burden of 6000 minutes.

Status of the proposed information collection: This is a new collection.

Authority: The Paperwork Reduction Act of 1995, 44 U.S.C., Chapter 35, as amended.

Dated: November 27, 2012.
John Trasviña,
Assistant Secretary for Fair Housing and Equal Opportunity.

[FR Doc. 2013-05069 Filed 3-4-13; 8:45 am]

BILLING CODE 4210-67-P